DEPARTMENT OF HEALTH AND HUMAN SERVICES

National Institutes of Health

Submission for OMB Review; 30-Day Comment Request; Office of Minority Health Research Coordination (OMHRC) Research Training and Mentor Programs Applications (National Institute of Diabetes and Digestive and Kidney Diseases)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Ms. Winnie Martinez, Project Officer, 6707 Democracy Blvd., 9th Floor, Bethesda, MD, 20892 or call non-toll-free number (301) 435-2988 or email your request, including your address to: Winnie.Martinez@nih.gov.

SUPPLEMENTARY INFORMATION: This proposed information collection was previously published in the Federal Register on March 13, 2023, page 15423-15424 (88 FR 15423) and allowed 60 days for public comment. No public comments were received. The purpose of this notice is to allow an additional 30 days for public comment. The National Institute of Diabetes and Digestive and Kidney Diseases (NIDDK), National Institutes of Health, may not conduct or sponsor, and the respondent is not required to respond to an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection Title: Office of Minority Health Research Coordination Training and Mentor Programs Applications in use with OMB Control Number 0925-0748, exp., date 8/31/2026 REVISION, National Institute of Diabetes and Digestive and Kidney Diseases (NIDDK), National Institutes of Health (NIH).

Need and Use of Information Collection: In 2000, the National Institute of Diabetes and Digestive and Kidney Diseases of the National Institutes of Health established the Office of Minority Health Research Coordination to address the burden of diseases and disorders that disproportionately impact the health of minority populations. One of the major goals of the office is to build and sustain a pipeline of researchers from underrepresented populations in the biomedical, behavioral, clinical, and social sciences, with a focus on NIDDK mission areas. The office accomplishes this goal by administering a variety of programs and initiatives to recruit high school through post-doctoral educational level individuals into OMHRC research training and mentor programs: The Short-Term Research Experience Program to Unlock Potential (STEP-UP), the Diversity Summer Research Training Program (DSRTP) for Undergraduate Students, Network of Minority Health Research Investigators (NMRI), the NIH/National Medical Association (NMA) Academic Career Fellow Travel Awards, and the NIH/National Hispanic Medical Association (NHMA) Academic Career Fellow Travel Awards. Identification of participants to matriculate into the program and initiatives comes from applications and related forms hosted through the NIDDK website. The proposed information collection activity is necessary in order to determine the eligibility and quality of potential awardees for traineeship in these programs and to evaluate the effectives of the OMHRC programs in achieving their missions and goals.

OMB approval is requested for three (3) years. There are no costs to respondents other than their time. The total estimated annualized burden hours are 1649.

Estimated Annualized Burden Hours
Form name | Type of respondent | Number of respondents | Number of responses per respondent | Average burden per response (in hours) | Total annual burden hours
Short-Term Research Experience Program to Unlock Potential (STEP-UP) Application | Individuals/Households | 600 | 1 | 1 | 600
STEP-UP Student Feedback Form | Individuals/Households | 175 | 1 | 15/60 | 44
STEP-UP Participant Survey Form | Private Sector | 2,200 | 1 | 5/60 | 183
Diversity Summer Research Training Program (DSRTP) Feedback Form | Individuals/Households | 14 | 1 | 20/60 | 5
Network of Minority Health Research Investigators (NMRI) Enrollment Form | Private Sector | 200 | 1 | 15/60 | 50
NMRI Evaluation Form Day 1 | Private Sector | 120 | 1 | 10/60 | 20
NMRI Evaluation Form Day 2 | Private Sector | 120 | 1 | 10/60 | 20
NMRI Evaluation Form Day 3 | Private Sector | 120 | 1 | 10/60 | 20
NMRI Survey Form | Private Sector | 800 | 1 | 30/60 | 400
NMRI Mentor-Mentee Agreement Form | Private Sector | 100 | 1 | 30/60 | 50
NIH/National Medical Association (NMA) Academic Career Fellow Travel Awards Application | Private Sector | 200 | 1 | 20/60 | 67
NIH/NMA Feedback Form | Private Sector | 40 | 1 | 30/60 | 20
NIH/NMA Academic Career Development Workshop Contact Information and Feedback Form | Private Sector | 1,000 | 1 | 5/60 | 83
NIH/National Hispanic Medical Association (NHMA) Academic Career Fellow Travel Awards Application | Private Sector | 200 | 1 | 20/60 | 67
NIH/NHMA Feedback Form | Private Sector | 40 | 1 | 30/60 | 20
Total |  |  | 5,929 |  | 1,649

Dated: May 31, 2023.
Melbourne L. Bull Jr.,
NIDDK Project Clearance Liaison, Office of Management and Policy Analysis, National Institute of Diabetes and Digestive and Kidney Diseases, National Institutes of Health.

[FR Doc. 2023-11912 Filed 6-5-23; 8:45 am]

BILLING CODE 4140-01-P